DEPARTMENT OF ENERGY

Federal Energy Regulatory Commission

Combined Notice of Filings #1

Take notice that the Commission received the following electric corporate filings:

Docket Numbers: EC15-118-000.

Applicants: Rising Tree Wind Farm LLC, Rising Tree Wind Farm II LLC.

Description: Application for Authorization for Disposition of Jurisdictional Facilities and Request for Expedited Action of Rising Tree Wind Farm LLC, et. al.

Filed Date: 4/10/15.

Accession Number: 20150410-5153.

Comments Due: 5 p.m. ET 5/1/15.

Docket Numbers: EC15-119-000.

Applicants: American Transmission Company LLC.

Description: Application for Authority to Acquire Transmission Facilities of American Transmission Company LLC.

Filed Date: 4/10/15.

Accession Number: 20150410-5208.

Comments Due: 5 p.m. ET 5/1/15.

Take notice that the Commission received the following electric rate filings:

Docket Numbers: ER10-2570-017.

Applicants: Shady Hills Power Company, L.L.C.

Description: Amendment to December 16, 2014 Triennial Market Power Analysis of Shady Hills Power Company, L.L.C.

Filed Date: 4/3/15.

Accession Number: 20150403-5071.

Comments Due: 5 p.m. ET 4/24/15.

Docket Numbers: ER14-2956-006.

Applicants: Hoopeston Wind, LLC.

Description: Notice of Non-Material Change in Status of Hoopeston Wind, LLC.

Filed Date: 4/10/15.

Accession Number: 20150410-5121.

Comments Due: 5 p.m. ET 5/1/15.

Docket Numbers: ER15-527-001.

Applicants: PJM Interconnection, L.L.C.

Description: Compliance filing per 35: Errata to Compliance Filing in Docket No. ER15-527-000 to be effective 2/2/2015.

Filed Date: 4/10/15.

Accession Number: 20150410-5150.

Comments Due: 5 p.m. ET 5/1/15.

Docket Numbers: ER15-1487-000.

Applicants: PJM Interconnection, L.L.C., Virginia Electric and Power Company.

Description: Section 205(d) rate filing per 35.13(a)(2)(iii): Dominion submits revisions to OATT Att H-16A re: prepayments to be effective 1/1/2014.

Filed Date: 4/9/15.

Accession Number: 20150409-5180.

Comments Due: 5 p.m. ET 4/30/15.

Docket Numbers: ER15-1488-000.

Applicants: PJM Interconnection, L.L.C., PPL Electric Utilities Corporation.

Description: Section 205(d) rate filing per 35.13(a)(2)(iii): PPL submits revisions to OATT Attachment H-8G re PBOP expense to be effective 6/1/2015.

Filed Date: 4/9/15.

Accession Number: 20150409-5196.

Comments Due: 5 p.m. ET 4/30/15.

Docket Numbers: ER15-1489-000.

Applicants: PacifiCorp.

Description: Section 205(d) rate filing per 35.13(a)(2)(iii): BPA Construction Agreement (Summer Lake CB & SCADA) to be effective 6/9/2015.

Filed Date: 4/9/15.

Accession Number: 20150409-5206.

Comments Due: 5 p.m. ET 4/30/15.

Docket Numbers: ER15-1490-000.

Applicants: Midcontinent Independent System Operator, Inc.

Description: Section 205(d) rate filing per 35.13(a)(2)(iii): 2015-04-10_Attachment O Reconciliation Filing to be effective 6/1/2015.

Filed Date: 4/10/15.

Accession Number: 20150410-5078.

Comments Due: 5 p.m. ET 5/1/15.

Docket Numbers: ER15-1491-000.

Applicants: El Paso Electric Company.

Description: Section 205(d) rate filing per 35.13(a)(2)(iii): Concurrence of EPE to APS Service Agreement No. 193, Amendment 3 to be effective 2/11/2015.

Filed Date: 4/10/15.

Accession Number: 20150410-5137.

Comments Due: 5 p.m. ET 5/1/15.

Docket Numbers: ER15-1492-000.

Applicants: El Paso Electric Company.

Description: Section 205(d) rate filing per 35.13(a)(2)(iii): Concurrence of EPE to APS Service Agreement Nos. 190, 192, 194, and 195 to be effective 3/11/2015.

Filed Date: 4/10/15.

Accession Number: 20150410-5146.

Comments Due: 5 p.m. ET 5/1/15.

Docket Numbers: ER15-1493-000.

Applicants: ISO New England Inc., New England Power Pool Participants Committee.

Description: Section 205(d) rate filing per 35.13(a)(2)(iii): FAP to be effective 6/12/2015.

Filed Date: 4/10/15.

Accession Number: 20150410-5182.

Comments Due: 5 p.m. ET 5/1/15.

Docket Numbers: ER15-1494-000.

Applicants: Convergent Energy and Power LLC.

Description: Initial rate filing per 35.12 Petition for Acceptance of Initial Tariff, Waivers and Blanket Authority to be effective 6/15/2015.

Filed Date: 4/10/15.

Accession Number: 20150410-5197.

Comments Due: 5 p.m. ET 5/1/15.

Docket Numbers: ER15-1495-000.

Applicants: Alabama Power Company.

Description: Section 205(d) rate filing per 35.13(a)(2)(iii): Clay Solar LGIA Filing to be effective 3/27/2015.

Filed Date: 4/10/15.

Accession Number: 20150410-5253.

Comments Due: 5 p.m. ET 5/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2015.
Nathaniel J. Davis, Sr.,
Deputy Secretary.

[FR Doc. 2015-08748 Filed 4-15-15; 8:45 am]

BILLING CODE 6717-01-P